DEPARTMENT OF COMMERCE

International Trade Administration

[C-834-811]

Silicon Metal From the Republic of Kazakhstan: Postponement of Preliminary Determination in the Countervailing Duty Investigation

AGENCY: Enforcement and Compliance, International Trade Administration, Department of Commerce.

DATES: Applicable September 8, 2020.

FOR FURTHER INFORMATION CONTACT: Justin Neuman at (202) 482-0486, AD/CVD Operations, Enforcement and Compliance, International Trade Administration, U.S. Department of Commerce, 1401 Constitution Avenue NW, Washington, DC 20230.

SUPPLEMENTARY INFORMATION:

Background

On July 20, 2020, the Department of Commerce (Commerce) initiated the countervailing duty (CVD) investigation of silicon metal from the Republic of Kazakhstan (Kazakhstan).¹ Currently, the preliminary determination is due no later than September 23, 2020.

¹ See Silicon Metal from the Republic of Kazakhstan: Initiation of Countervailing Duty Investigation, 85 FR 45173 (July 27, 2020) (Initiation).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 24, 2020, the petitioners ² submitted a timely request that Commerce postpone the preliminary CVD determination.³ The petitioners stated that, due to the number and nature of subsidy programs under investigation, the normal 65-day deadline for the preliminary determination would not provide sufficient time for Commerce to adequately examine the amount of subsidies that producers and exporters of subject merchandise in Kazakhstan receive.⁴ In accordance with 19 CFR 351.205(e), the petitioners have stated the reasons for requesting a postponement of the preliminary determination, and Commerce finds no compelling reason to deny the request. Therefore, pursuant to section 703(c)(1)(A) of the Act, we are extending the due date for the preliminary determination to no later than 130 days after the date on which this investigation was initiated, i.e., to November 27, 2020. Pursuant to section 705(a)(1) of the Act and 19 CFR 351.210(b)(1), the deadline for the final determination will continue to be 75 days after the date of the preliminary determination.

² The petitioners are Globe Specialty Metals, Inc. and Mississippi Silicon LLC.

³ See Petitioners' Letter, “Silicon Metal from the Republic of Kazakhstan: Petitioners' Request to Postpone the Deadline for the Preliminary Determination,” dated August 24, 2020.

⁴ Id.

This notice is issued and published pursuant to section 703(c)(2) of the Act and 19 CFR 351.205(f)(1).

Dated: September 1, 2020.
Jeffrey I. Kessler,
Assistant Secretary for Enforcement and Compliance.

[FR Doc. 2020-19784 Filed 9-4-20; 8:45 am]

BILLING CODE 3510-DS-P